FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 13, 2003.

A. Federal Reserve Bank of Minneapolis (Richard M. Todd, Vice President and Community Affairs Officer) 90 Hennepin Avenue, Minneapolis, Minnesota 55480-0291:

1. Danny Jo McLeod, Horace, North Dakota; to acquire control of Quality Bankshares, Inc., Fingal, North Dakota, and thereby indirectly acquire control of Fingal State Bank, Fingal, North Dakota.

B. Federal Reserve Bank of Kansas City (James Hunter, Assistant Vice President) 925 Grand Avenue, Kansas City, Missouri 64198-0001:

1. William Frederick Budde and Frank Frederick Budde, Walton, Kansas; to retain control of J&M Bancshares, Inc., Walton, Kansas, and thereby indirectly retain control of The Walton State Bank, Walton, Kansas.

2. Edward Carlson Rolfs, as co-trustee of CKI Management Trust, general partner of Central of Kansas, LP, Junction City, Kansas; to acquire control of Central of Kansas, Inc., Junction City, Kansas, and thereby indirectly acquire control of Central National Bank, Junction City, Kansas.

Board of Governors of the Federal Reserve System, April 23, 2003.
Robert deV. Frierson,
Deputy Secretary of the Board.

[FR Doc. 03-10420 Filed 4-25-03; 8:45 am]

BILLING CODE 6210-01-S